ELECTION ASSISTANCE COMMISSION

Information Collection Activity; Proposed Information Collection; Comment Request

AGENCY: U.S. Election Assistance Commission (EAC).

ACTION: Notice.

SUMMARY: In compliance with Section 3506(c)(2)(A) of the Paperwork Reduction Act of 1995, EAC announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology. The information collection tool is available on the EAC Web site (http://www.eac.gov).

DATES: Written comments must be submitted on or before May 19, 2008.

ADDRESSES: Written comments and recommendations on the proposed information collection should be sent to the U.S. Election Assistance Commission, 1225 New York Avenue, NW., Suite 1100, Washington, DC 20005, ATTN: Election Day Survey (or via the Internet at http://www.electiondaysurvey@eac.gov).

FOR FURTHER INFORMATION CONTACT: To request more information on this proposed information collection or to obtain a copy of the proposal and associated collection instruments, please write to the above address or call Mrs. Juliet Thompson-Hodgkins, Ms. Karen Lynn-Dyson, or Ms. Shelly Anderson at (202) 566-3100. The proposed data collection instrument is available on the EAC Web site (http://www.eac.gov).

SUPPLEMENTARY INFORMATION: Title and OMB Number: 2008 Election Administration and Voting Survey; OMB Number Pending.

Needs and Uses: This proposed information collection activity is necessary to meet requirements of the Help America Vote Act (HAVA) of 2002 (42 U.S.C. 15301). Section 241 of HAVA requires the EAC to study and report on election activities, practices, policies, and procedures, including methods of voter registration, methods of conducting provisional voting, poll worker recruitment and training, and such other matters as the Commission determines are appropriate. In addition, HAVA transferred to the EAC the Federal Election Commission's responsibility of biennially administering a survey on the impact of the National Voter Registration Act (NVRA). The information the States are required to submit to the EAC for purposes of the NVRA report are found under Title 11 of the Code of Federal Regulations (Chapter 1, part 8, subchapter C). HAVA 703(a) also amended the Uniformed and Overseas Citizens Absentee Voters Act by requiring that “not later than 90 days after the date of each regularly scheduled general election for Federal office, each State and unit of local government which administered the election shall (through the State, in the case of a unit of local government) submit a report to the Election Assistance Commission (established under the Help America Vote Act of 2002) on the combined number of absentee ballots transmitted to absent uniformed services voters and overseas voters for the election and the combined number of such ballots which were returned by such voters and cast in the election, and shall make such a report available to the general public.” In order to fulfill these requirements and to provide a complete report to Congress, the EAC is seeking information relating to the period from the Federal general election day + 1, 2006 through the November 2008 Federal general election.

Affected Public: State government.

Number of Respondents: 55.

Responses per Respondent: 1.

Estimated Burden Per Response: 147 hours.

Estimated Total Annual Burden Hours: 8,085 hours.

Frequency: Biennially.

To improve and facilitate the collection and analysis of the survey data, the EAC anticipates developing and providing to the States Excel-compatible templates along with data format sheets/data maps that explain each data element being requested. The template format will allow respondents to upload and save data in a format that is readily available to the States. The completed template can then be sent directly to the EAC's contractor via email. The following categories of information are requested on a state- and county-level (or township-, independent city-, borough-level, where applicable):

Voter Registration Applications (From the Period of Federal General Election Day + 1, 2006 Through Federal General Election Day, 2008)

(a) Total number of registered voters; (b) Number of active and inactive registered voters; (c) Number of persons who registered to vote on Election Day—only applicable to States with Election Day registration; (d) Number of voters who registered using online registration—only applicable to States that allow online registration: (e) Number of voter registration applications received from all sources; (f) Number of voter registration applications that were duplicates, invalid or rejected, new, changes of name, address, party, and not categorized; (g) Number of duplicate registration applications received from all sources; (h) Total number of removal/confinnation notices mailed to voters and the reason for removal; (i) Total number of voters removed from the registration list or moved to the inactive registration list.

Uniformed and Overseas Citizens Absentee Voting Act (UOCAVA)

(a) Total number of UOCAVA absentee ballots transmitted, returned, cast, and counted; (b) Total number of UOCAVA absentee ballots not counted and the reason for rejection; (c) Total number of Federal Write-in Absentee Ballots returned and cast by UOCAVA voters; (d) Number of UOCAVA ballots transmitted as part of the two-election cycle of automatic requests; (e) Number of UOCAVA ballots transmitted as part of the two-election cycle of automatic requests that were returned undeliverable and submitted for counting.

Election Administration

(a) Total number of precincts in the state/jurisdiction; (b) Number of polling places available for voting in the November 2008 Federal general election; (c) Number of poll workers used for election day; (d) Extent to which jurisdictions had enough poll workers available for the general election.

Election Day Activities

(a) Total number of persons who voted in the 2008 Federal general election; (b) The source of the participation number—poll books, ballots counted, vote history; (c) Total number of first-time voters who registered by mail and were required to provide identification in order to vote; (d) Number of voters who appeared on the permanent absentee voter registration list; ( e) Number of absentee ballots requested, received, counted, and not counted; (f) Reasons for absentee ballot rejection; (g) Number of provisional ballots cast, counted, and rejected; (h) Reasons for provisional ballot rejection; (i) Use of electronic and printed poll books during the 2008 Federal general election; (j) Type and number of voting equipment used for the 2008 Federal general election; (k) Type of process in which voting equipment was used—precinct, absentee, early vote site, accessible to disabled voters, provisional voting; (l) Location in which votes were tallied—central location, precinct/polling place, or early vote site.

2008 Election Results

(a) Total number of votes cast—at polling places, via absentee ballot, at early vote centers, via provisional ballots.

Statutory Overview (2008 Federal General Election)

(a) Information on whether the state is exempt from the National Voter Registration Act (NVRA); (b) State definition of terms—over-vote, under-vote, blank ballot, void/spoiled ballot, provisional/challenged ballot; (c) State definition of inactive and active voter; (d) State provision for voter identification at registration, for in-person voting, and for mail-in or absentee voting; (e) information on legal citation for changes to election laws or procedures enacted or adopted since the previous Federal general election; (f) State definition of voter registration; (g) Process used for moving voters from active to inactive lists and from inactive to active; (h) State deadline for registration for the Federal general election; (i) Information of whether the state is an Election Day/Same Day Registration state; (j) Description of state voter registration database system—bottom-up or top-down; (k) State voter removal/confirmation notices processes; (l) Agency or department that is responsible for list maintenance; (m) Information on whether there are electronic links between the voter registrar's office and other state agencies; (n) State's use of National Change of Address (NCOA); (o) State's voting eligibility requirements as they relate to convicted felons; (p) Tabulation of votes cast at a place other than the voter's precinct; (q) Provision for voting absentee; (r) State tracking of the date of all ballots cast before election day; (s) Provision for mail-in voting in place of at-the-precinct voting; (t) Acceptance or rejection of provisional ballots of voters registered in a different precinct; (u) State process for capturing over-votes and under-votes.

Thomas R. Wilkey,
Executive Director, U.S. Election Assistance Commission.

[FR Doc. E8-5471 Filed 3-19-08; 8:45 am]

BILLING CODE 6820-KF-M